DEPARTMENT OF THE INTERIOR

Bureau of Land Management

[LLCOF00000 L19900000.PO0000]

Notice of Meetings, Rio Grande Natural Area Commission

AGENCY: Bureau of Land Management, Interior.

ACTION: Notice of meetings.

SUMMARY: In accordance with the Federal Land Policy and Management Act (FLPMA) and the Federal Advisory Committee Act of 1972 (FACA), the U.S. Department of the Interior, Bureau of Land Management (BLM) Rio Grande Natural Area Commission will host public meetings regarding the Draft Management Plan as indicated below.

DATES: The Rio Grande Natural Area Commission scheduled public meetings for May 12, 13 and 14. Each meeting will begin at 6 p.m. and adjourn at approximately 8 p.m. A phone call to plan the public meetings will be held on May 6 from 12 to 2 p.m.

ADDRESS: The May 12 meeting will be held at the San Luis Valley Water Conservancy District Office, 623 Fourth St., Alamosa, CO 81101. The May 13 meeting will be held at the Costilla County Public Health Agency, 233 Main St., Suite C, San Luis, CO 81152. The May 14 meeting will be held in Antonito, Colorado at the Antonito Senior Center, 701 Main St., Antonito, CO 81120. To participate in the planning call, please contact Kyle Sullivan at the number listed below.

FOR FURTHER INFORMATION CONTACT: Kyle Sullivan, Public Affairs Specialist, Royal Gorge Field Office, 3028 E. Main St., Cañon City, CO 81212; (719) 269-8553. Persons who use a telecommunications device for the deaf (TDD) may call the Federal Information Relay Service (FIRS) at 1-800-877-8339 to contact the above individual during normal business hours. The FIRS is available 24 hours a day, seven days a week, to leave a message or question with the above individual. You will receive a reply during normal business hours.

SUPPLEMENTARY INFORMATION: The Rio Grande Natural Area Commission was established in the Rio Grande Natural Area Act (16 U.S.C. 460rrr-2). The nine-member Commission advises the Secretary of the Interior, through the BLM, concerning the preparation and implementation of a management plan for non-Federal land in the Rio Grande Natural Area, as directed by law. The public is invited to review, comment on and ask questions about the Commission's draft management plan. The draft management plan and minutes from previous meetings are available for public inspection at: www.blm.gov/co/st/en/fo/slvfo.html.

Ruth Welch,
BLM Colorado State Director.

[FR Doc. 2015-08036 Filed 4-7-15; 8:45 am]

BILLING CODE 4310-JB-P